SECURITIES AND EXCHANGE COMMISSION

[Release No. 34-50499; File No. SR-Amex-2004-75]

Self-Regulatory Organizations; Notice of Withdrawal of a Proposed Rule Change by the American Stock Exchange LLC Relating to Revisions to Amex Rule 154

October 6, 2004.

On August 30, 2004, the American Stock Exchange LLC (“Amex”), filed with the Securities and Exchange Commission (“Commission”) a proposed rule change pursuant to Section 19(b)(1) of the Securities Exchange Act of 1934 (“Act”) ¹ and Rule 19b-4 thereunder, ² to amend Amex Rule 154 to prohibit specialists from charging commissions and fees in certain instances. The proposed rule change was published for comment in the Federal Register on September 9, 2004. ³ The Commission received six comments on the proposal. ⁴

¹ 15 U.S.C. 78s(b)(1).

² 17 CFR 240.19b-4.

³ See Securities Exchange Act Release No. 50307 (September 2, 2004), 69 FR 54709.

⁴ See letter to Elizabeth King, Associate Director, Division of Market Regulation (“Division”), Commission, from James D. Van De Graaff, Partner, Katten Muchin Zavis Rosenman, dated September 7, 2004; letters to Jonathan G. Katz, Secretary, Commission, from Charles B. Cox III, dated September 27, 2004, from Todd Silverberg, General Counsel, Susquehanna Investment Group, dated September 29, 2004, from Simon Lubershane, dated September 29, 2004, from Matthew Hinerfeld, Managing Director and Deputy General Counsel, Citadel Derivatives Group LLC, dated September 30, 2004, and from Ryan Primmer, Managing Director, UBS Securities LLC, dated September 30, 2004.

On October 1, 2004, the Amex withdrew the proposed rule change. ⁵

⁵ See letter from Bill Floyd-Jones, Associate General Counsel, Amex, to Nancy Sanow, Assistant Director, Division, Commission, dated September 30, 2004.

For the Commission, by the Division of Market Regulation, pursuant to delegated authority.⁶
Margaret H. McFarland,
Deputy Secretary.

⁶ 17 CFR 200.30-3(a)(12).

[FR Doc. 04-23125 Filed 10-14-04; 8:45 am]

BILLING CODE 8010-01-P